POSTAL SERVICE

39 CFR Part 111

Line-of-Travel Sequencing for Basic Carrier Route Periodicals

ACTION: Proposed rule.

SUMMARY: The Postal Service is soliciting comments on a proposed change to the Domestic Mail Manual that would require mailers to prepare basic rate carrier route Periodicals mail in line-of-travel sequence.

DATES: Comments must be received on or before June 19, 2000.

ADDRESSES: Comments must be sent to the Manager, Mail Preparation and Standards, 475 L'Enfant Plaza SW, Room 6800, Washington, DC 20260-2405. Fax: 202-268-4336. Comments will be available for public viewing from 9 a.m. to 4 p.m. in the Postal Service Library, 475 L'Enfant Plaza, 11th Floor, Washington, DC. Copies of comments also may be requested via fax or email.

FOR FURTHER INFORMATION CONTACT: Anne Emmerth, 202-268-2363, aemmerth@email.usps.gov.

SUPPLEMENTARY INFORMATION: In 1996, the Postal Service began requiring line-of-travel sequencing for all basic Enhanced Carrier Route Standard Mail (A). LOT sequencing generally approximates carriers' actual sequence of delivery. A cost study shows that this preparation has resulted in significant savings due to a reduction in time spent by carriers casing mail. Analysis indicates that implementing a line-of-travel requirement for packages of basic rate carrier route Periodicals could produce significant savings.

The Postal Service and representatives from the Periodicals industry are concerned about recent upward trends in mail processing costs for Periodicals and have been studying ways to lower costs. Out of these discussions came several ideas for further examination. One of these ideas is to require Periodicals mail qualifying for basic carrier route rates to be prepared in line-of-travel (LOT) sequence. A Postal Service cost study indicates that requiring LOT sequencing for basic rate carrier route Periodicals will result in reduced costs.

Accordingly, the Postal Service is proposing to require that Periodicals mailers prepare basic rate carrier route mail in line-of-travel sequence. Mailers would be required to sort their mail using the current USPS line-of-travel product within 90 days before the date of mailing. As an alternative, mailers may opt to prepare mail in actual walk sequence to qualify for basic carrier route rates.

The line-of-travel product contains a list of each ZIP+4 code that a route serves. The ZIP+4 codes are numbered in sequence according to their first occurrence on the route as served by the carrier. Each ZIP+4 is appended with either an “A” (for ascending) or a “D” (for descending) to specify the order in which the addresses in that ZIP+4 must be arranged. For Periodicals, all basic rate carrier route pieces would be sequenced in ascending ZIP+4 code line-of-travel order. As an alternative, mailers could prepare basic rate carrier route mail in actual walk sequence.

The proposed effective date of this change is September 9, 2000.

Although exempt from the notice and comment requirements of the Administrative Procedure Act (5 U.S.C. 553(b), (c)) regarding proposed rulemaking by 39 U.S.C. 410(a), the Postal Service invites comments on the following proposed revisions to the Domestic Mail Manual, incorporated by reference in the Code of Federal Regulations. See 39 CFR part 111.

List of Subjects in 39 CFR Part 111

Administrative practice and procedure, Postal Service.

PART 111—[AMENDED]

1. The authority citation for 39 CFR Part 111 continues to read as follows:

Authority: 5 U.S.C. 552(a); 39 U.S.C. 101, 401, 403, 404, 414, 3001-3011, 3201-3219, 3403-3406, 3621, 3626, 5001.

2. Revise the following sections of the Domestic Mail Manual (DMM) as set forth below:

E Eligibility

* * * * *

E200 Periodicals

* * * * *

E230 Nonautomation Rates

* * * * *

2.0 CARRIER ROUTE RATES

* * * * *

[Amend 2.2 by revising the heading and item a, renumbering item b as item c, and adding new item b to read as follows:]

2.2 Sequencing

Preparation to qualify eligible pieces for carrier route rates is optional and is subject to M200. Carrier route sort need not be done for all carrier routes in a 5-digit area. Specific rate eligibility is subject to these standards:

a. The carrier route rates apply to copies in carrier route packages of six or more letter-size pieces each that are sorted to carrier routes, 5-digit carrier routes, or 3-digit carrier routes trays; and six or more flat-size pieces or irregular parcel-size pieces each that are sorted to carrier route, 5-digit, or 5-digit scheme carrier routes sacks. (Preparation of 5-digit scheme carrier routes sacks is optional, but, if performed, must be done for all 5-digit scheme destinations.) The applicable sequencing requirements in M050 and in 2.2b or 2.2c also must be met.

b. Basic carrier route rate mail must be prepared either in carrier walk sequence or in line-of-travel (LOT) sequence according to LOT schemes prescribed by the USPS (M050).

c. The high density and saturation rates apply to pieces that are eligible for carrier route rates under 2.2a, are prepared in carrier walk sequence, and meet the applicable density standards in 6.0 for the rate claimed.

* * * * *

M Mail Preparation and Sortation

M000 General Preparation Standards

* * * * *

M050 Delivery Sequence

* * * * *

3.0 DELIVERY SEQUENCE INFORMATION

* * * * *

3.4 Line-of-Travel Sequence

[Revise the first sentence to read as follows:]

Unless the mail is prepared in carrier walk sequence, LOT sequence is required for mailings at Enhanced Carrier Route basic Standard Mail (A) rates and carrier route basic Periodicals rates.* * *

4.0 DOCUMENTATION

4.1 General

[Revise the fourth sentence to read as follows:]

* * * For Periodicals, the postage statement must be annotated in the “Sequencing Date” block on each of the lines where basic, high density, and saturation per piece rate postage is reported. * * *

* * * * *

M200 Periodicals (Nonautomation)

1.0 BASIC STANDARDS

* * * * *

1.3 Carrier Route and Walk Sequence

[Revise the second sentence of 1.3 to read as follows:]

* * * Periodicals for which a carrier route discount is claimed must be prepared as a carrier route mailing under this section and either the walk sequencing standard or the line-of-travel sequencing standard in M050; pieces prepared with a simplified address must also meet the standards in A040.

* * * * *

An appropriate amendment to 39 CFR part 111 to reflect these changes will be published if the proposal is adopted.

Stanley F. Mires,
Chief Counsel, Legislative.

[FR Doc. 00-12443 Filed 5-17-00; 8:45 am]

BILLING CODE 7710-12-P